NUCLEAR REGULATORY COMMISSION

[Docket ID NRC-2014-0147]

AP1000 Standard Technical Specifications

AGENCY: Nuclear Regulatory Commission.

ACTION: Generic technical specification travelers; request for comment.

SUMMARY: The U.S. Nuclear Regulatory Commission (NRC) is soliciting public comment on its generic technical specification travelers (GTSTs) for the development of standard technical specifications (STS) for the AP1000 certified reactor design based on the AP1000 generic technical specifications (GTS). Each GTST documents the safety basis for proposed improvements to one or more GTS sections that will result in corresponding sections in the AP1000 STS, which will be the subject of a NUREG (similar to NUREG-1431, STS for Westinghouse Plants). The purpose of the GTSTs is to provide an orderly method of soliciting and processing public comments on proposed enhancements and updates to the GTS and the associated GTS Bases.

DATES: Submit comments by September 22, 2014. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2014-0147. Address questions about NRC dockets to Carol Gallagher; telephone: 301-287-3422; email: Carol.Gallagher@nrc.gov. For technical questions, contact the individual listed in the FOR FURTHER INFORMATION CONTACT section of this notice.

• Mail comments to: Cindy Bladey, Office of Administration, Mail Stop: 3WFN-06-A44M, U.S. Nuclear Regulatory Commission, Washington, DC 20555-0001.

For additional direction on accessing information and submitting comments, see “Accessing Information and Submitting Comments” in the SUPPLEMENTARY INFORMATION section of this document.

FOR FURTHER INFORMATION CONTACT: Craig Harbuck, Office of New Reactors, U.S. Nuclear Regulatory Commission, Washington, DC 20555-0001, telephone: 301-415-3140, email: Craig.Harbuck@nrc.gov.

SUPPLEMENTARY INFORMATION:

I. Obtaining Information and Submitting Comments

A. Obtaining Information

Please refer to Docket ID NRC-2014-0147 when contacting the NRC about the availability of information for this action. You may obtain information related to this action, which the NRC possesses and is publicly available, by any of the following methods:

• Federal rulemaking Web site: Go to http://www.regulations.gov and search for Docket ID NRC-2014-0147.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The AP1000 GTSTs draft files are available in ADAMS under Accession No. ML14129A393.

• NRC's PDR: You may examine and purchase copies of public documents at the NRC's PDR, Room O1-F21, One White Flint North, 11555 Rockville Pike, Rockville, Maryland 20852.

B. Submitting Comments

Please include Docket ID NRC-2014-0147 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The content of each GTST, which includes the associated technical specification subsection(s), resides in an automated database application. Following incorporation of public comment resolutions into the database and NRC approval of the updated GTSTs, the database application will be used to efficiently generate files for the AP1000 STS, which will be published as a NUREG.

The proposed improvements to the GTS include: (1) Applicable changes made to operating reactor STS since Rev. 2 of NUREG-1431 that are contained in NRC-approved Technical Specification Task Force (TSTF) Travelers; (2) addition of site-specific information provided by the AP1000 lead plant combined license (COL) applicant (i.e., Southern Nuclear Operating Company for Vogtle Electric Generating Plant [VEGP] Units 3 and 4) that was approved for the plant-specific TS issued with the COL—site-specific information will be denoted by enclosing it in brackets in the AP1000 STS; (3) standard departures from the GTS, GTS Bases, or both that were proposed by the lead plant COL applicant and approved as an exemption from the GTS, GTS Bases, or both in the plant-specific TS issued with the COL; (4) changes to the lead plant's plant-specific TS that were approved by the NRC as part of an amendment to the COL (e.g., Amendment 13 to COL No. NPF-91 for VEGP Unit 3); and (5) other changes recommended by the NRC staff, including clarifications and enhancements of the GTS Bases.

In addition to automating production of files for GTSTs and AP1000 STS, in the future, the database application may be used to more efficiently process AP1000 STS change proposals and—after issuance of COLs and AP1000 plants begin operation—COL amendment applications to change plant-specific TS. A nuclear power reactor licensee, for example, could request plant-specific TS changes based on NRC approved GTST changes after confirming the applicability of the GTST's safety basis for the changes to the reactor's licensing basis and design. The NRC staff is requesting comment on the draft GTSTs prior to issuing the initial AP1000 STS and announcing its availability for referencing in license amendment applications.

The Design Control Document (DCD) in a design certification application for a new reactor design includes generic technical specifications (GTS). A Combined Operating License (COL) applicant who references a certified reactor design must adopt the DCD GTS approved by rulemaking (e.g., Appendix D to Part 52 of Title 10 of the Code of Federal Regulations (10 CFR) for the AP1000 design) into the plant-specific TS. After COL issuance, the licensee can obtain changes to the plant-specific TS, which were issued with and as part of the COL, through the license amendment process prescribed by 10 CFR 50.90. The AP1000 GTS are based upon the Westinghouse STS (NUREG-1431, Revision 2). There have been two subsequent major revisions to the Westinghouse STS (Revisions 3 and 4).

Current operating reactor STS (NUREG-1430, -1431, -1432, -1433, and -1434) are revised through the industry's pressurized water reactor (PWR) and boiling water reactor (BWR) owner groups' Technical Specifications Task Force (TSTF) working with TS staff of the Office of Nuclear Reactor Regulation (NRR) with participation by TS staff in the Office of New Reactors (NRO) and NRC technical and projects staff as needed. The TSTF change process serves to make corrections and improvements to the STS. The TSTF usually proposes changes and after conducting a safety review the NRR TS staff either approves or disapproves the changes. The TSTF change process is intended to facilitate NRR's control of STS and plant specific TS changes by processing proposed changes to the STS in a manner that supports subsequent plant-specific TS license amendment applications. The Westinghouse STS revisions are derived from specific TSTF changes approved by NRC.

The NRO TS staff is creating STS NUREGs for the new reactor certified designs in order to maintain consistency and standardization of TS. The NRO TS staff will manage changes to the new reactor STS using a web-based automated system currently under development. The new reactor STS change process is envisioned to eventually be included with the TSTF change process for operating reactor STS. Applying the TSTF change process to new reactor STS NUREGs will promote consistency with operating reactor STS NUREGs and maintain standardization among all reactor designs for similar or equivalent TS requirements.

The NRO TS staff is preparing AP1000 STS based upon the GTS with applicable TSTF changes approved for Westinghouse STS incorporated. Each of the approved TSTF changes to Westinghouse STS (NUREG-1431, Revision 2) has been analyzed for applicability and a GTST has been created for each AP1000 GTS section incorporating the applicable approved TSTF changes. The GTSTs are designed to facilitate COL holder adoption. The GTST files are kept in a database that can be used to generate the latest version of the AP1000 STS. VEGP Units 3 and 4 (the AP1000 Reference COLs, or lead plants) were licensed to AP1000 DCD Revision 19. Shortly after COL issuance, the COL holder submitted a license amendment request (LAR) to upgrade the VEGP Units 3 and 4 plant-specific TS via approved license amendments in accordance with 10 CFR 50.90. The VEGP Units 3 and 4 license amendments to upgrade the plant-specific TS are reflected in the draft AP1000 GTSTs for which the staff is soliciting comments.

The NRC staff will evaluate any comments received, provide a response to the comments and make appropriate changes to the GTST documents. Following resolution of public comments the final GTSTs will be used to create Revision 0 of the AP1000 STS NUREG. The availability of the AP1000 STS NUREG Revision 0 and the supporting GTST documents will then be announced for consideration by licensees to upgrade plant-specific TS. Each amendment application made in response to the notice of availability will be processed and noticed in accordance with applicable rules and NRC procedures.

This proposal to make available NRC approved changes to GTS provisions, as documented in GTSTs and incorporated in the AP1000 STS and associated STS Bases, for adoption in plant-specific TS is applicable to all AP1000 COL holders. COL holders are anticipated to propose license amendments to update plant-specific TS with applicable GTST changes. To efficiently process the incoming license amendment applications, the staff requests that each licensee applying for changes contained in approved GTSTs include in its application justifications for adopting the proposed changes that are consistent with the safety basis given in the GTSTs; the amendment application should also justify any plant specific deviations from the approved GTST changes proposed for adoption.

If the staff announces the availability of a GTST change, licensees wishing to adopt the change must submit an application in accordance with applicable rules and other regulatory requirements. For each application the staff will publish a notice of consideration of issuance of amendment to facility operating licenses, a proposed no significant hazards consideration determination, and a notice of opportunity for a hearing.

Dated at Rockville, Maryland, this 12th day of June 2014.
For the Nuclear Regulatory Commission.
Antonio F. Dias,
Acting Branch Chief, Balance of Plant and Technical Specifications Branch, Division of Safety Systems and Risk Assessment, Office of New Reactors.

[FR Doc. 2014-14608 Filed 6-20-14; 8:45 am]

BILLING CODE 7590-01-P